DEPARTMENT OF THE INTERIOR

National Park Service

Bureau of Reclamation Draft Environmental Impact Statement for Clean Water Coalition Systems Conveyance and Operations Program; Lake Mead National Recreation Area; Clark County, NV; Notice of Availability

Summary: Pursuant to Section 102(2)(C) of the National Environmental Policy Act of 1969, and the corresponding Council of Environmental Quality implementing regulations (40 CFR parts 1500-08), the National Park Service and Bureau of Reclamation, as lead agencies for the Department of the Interior, announce the availability of the Clean Water Coalition Systems Conveyance and Operations Program (SCOP) Draft Environmental Impact Statement. Consistent with applicable laws and National Park Service and Bureau of Reclamation regulations and policies, the Draft SCOP EIS describes and analyzes four alternatives including the no action alternative.

The Draft SCOP Environmental Impact Statement evaluates the potential environmental impacts associated with three action (pipeline) alternatives, as well as a No-Action (no pipeline) Alternative. The three action alternatives include an Effluent Interceptor (EI) and Lake Conveyance System (LCS) that would collect and convey the highly treated effluent from the three treatment facilities to the Las Vegas Wash at a point upstream of Lake Las Vegas or to Lake Mead. The action alternatives would allow for flexible management of the highly treated effluent. A controlled amount of effluent would continue to be discharged to the Las Vegas Wash at each facility or at the EI Terminus. The discharge amount, velocity, and direction from the LCS diffuser would also be flexibly operated depending on the conditions of Lake Mead.

The Draft SCOP EIS evaluates effects of the alternatives on both visitor experience and park resources including: surface water hydrology, groundwater, water quality, biological resources/endangered species, cultural resources, recreation, land use, air quality, noise, socioeconomics, and other appropriate resource issues identified during the public scoping phase. An impairment analysis was also conducted for the portion of the proposed actions located on land administered by the National Park Service (NPS).

Purpose and Need For Federal Action: The purpose of implementing the proposal is to put into operation a treatment and conveyance system that will allow for flexible management of wastewater flow in the Las Vegas Valley, while maintaining water quality standards. Clark County, Nevada is one of the fastest growing counties in the U.S., and it is projected that the population in the area will be approximately 3,130,000 by 2035. The quantity of effluent treated and discharged in the Las Vegas Valley will increase as the population of the Valley increases. The treatment and conveyance facilities must accommodate the additional flows while continuing to meet current or future water quality standards for the Las Vegas Wash, Las Vegas Bay, and Lake Mead.

The Clean Water Coalition proposes to build and implement a system that provides maximum flexibility for management of treated effluent to:

• Meet current and future water quality standards for known pollutants, and as yet unknown standards for additional contaminants that may be regulated in the future;

• Protect and enhance the Lake Mead National Recreation Area (LMNRA) by continuing to meet beneficial uses and recreational and resource values of the LMNRA, while more than doubling the treated effluent flows discharged to Lake Mead;

• Recognize Lake Mead's likely lowering water levels, which are important because the amount of mixing and dilution available in the inner Las Vegas Bay are also decreasing as the Lake level decreases; and

• Avoid possible impacts to source-water quality at the Southern Nevada Water System intake structures.

Alternatives To Be Considered: The alternatives in the Draft SCOP EIS include expansions of the three treatment plants and the continued discharge of current and projected effluent flows to the Las Vegas Wash, with the use of conventional treatment processes to meet water quality standards (no action alternative); and construction and operation of a pipeline that would transport highly treated effluent from the three treatment facilities to a receiving area underwater within the Colorado River system (three action alternatives).

In addition to the No Action Alternative, the NPS and Bureau of Reclamation (BOR) have analyzed the potential impacts of three action alternatives: the Boulder Islands North Alternative, the Boulder Islands South Alternative, and the Las Vegas Bay Alternative. Under the No Action Alternative, the Clean Water Coalition would not construct pipelines to transport effluent from the treatment facilities. The three treatment agencies (City of Las Vegas, City of Henderson, and Clark County Water Reclamation District) would expand their facilities to handle the increasing quantities of wastewater through 2050. Current, conventional treatment processes and plant optimization would be used to meet the requirements set by the Nevada Division of Environmental Protection through the National Pollutant Discharge Elimination System permitting program. Facility expansions and modifications would occur on lands currently owned by the City of Las Vegas, Clark County, and City of Henderson.

Under the Boulder Islands North Alternative and the Boulder Islands South Alternative, the three treatment agencies would expand their facilities to handle the increasing quantities of wastewater through 2050, and current, conventional treatment processes and plant optimization would be used to meet water quality requirements. A pipeline would be constructed to convey highly treated effluent from the three treatment facilities to an alternate discharge location in the vicinity of the Boulder Islands in Lake Mead. The majority of the Boulder Islands North LCS and the Boulder Islands South LCS would be installed in a tunnel through the River Mountains.

Under the Las Vegas Bay Alternative, the three treatment agencies would expand their facilities to handle the increasing quantities of wastewater through 2050, and current, conventional treatment processes and plant optimization would be used to meet water quality requirements. A pipeline would be constructed to convey highly treated effluent from the three treatment facilities to an alternate discharge location in the Las Vegas Bay in Lake Mead.

Public Review and Comment: The Draft SCOP EIS will be available for public review for 60 days following the publication in the Federal Register of the Environmental Protection Agency's notice of the filing of this document (immediately upon confirmation of this date it will be announced on the LMNRA Web site and via local and regional press media). The NPS and BOR will hold public meetings to obtain oral comments during a two-week period in October 2005, as follows:

• October 17, Henderson Convention Center, 200 S. Water Street, Henderson, NV from 6:30-8:30 p.m.

• October 18, West Las Vegas Library, 951 W. Lake Mead Blvd., Las Vegas, NV from 6:30-8:30 p.m.

• October 19, West Flamingo Senior Center, 6255 W. Flamingo Road, Las Vegas, NV from 6:30-8:30 p.m.

• October 20, Summerlin Library, 1771 Inner Circle Drive, Las Vegas, NV from 6:30-8:30 p.m.

• October 24, Powerhouse Visitors Conference Center, 120 W. Route 66, Kingman, AZ from 6-8 p.m.

• October 25, Tempe Mission Palms Hotel, 60 E. 5th Street, Tempe, AZ from 6-8 p.m.

• October 26, Hilton Suites, 10 E. Thomas Road, Phoenix, AZ from 6-8 p.m.

• October 27, Radisson in Mission Valley, 1433 Camino Del Rio South, San Diego, CA from 6-8 p.m.

• October 28, Hyatt Regency Conference Center, 285 N. Palm Canyon Drive, Palm Springs, CA from 6-8 p.m.

All written comments on the Draft SCOP EIS must be postmarked or transmitted not later than 60 days after the EPA's notice of the filing published in the Federal Register; upon confirmation of this date it will be announced on the LMNRA Web site and via local and regional press media. Comments are to be addressed to the SCOP EIS Project Manager, PBS&J and may be sent either electronically to eis@cleanwatercoalition.com, via facsimile at (702) 990-7262, or by mail to 2270 Corporate Circle, Suite 100, Henderson, NV 89074.

Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

Copies of the Draft SCOP EIS may be obtained by contacting SCOP EIS Project Manager, PBS&J, 2270 Corporate Circle, Suite 100, Henderson, NV 89074 (or e-mailing to eis@cleanwatercoalition.com or telephone (702) 263-7275 extension 3014). The document will also be posted on the Internet at http://www.cleanwatercoalition.com, as well as made available at public libraries in the following locations:

Nevada—Boulder City Library, Las Vegas Public Library, Searchlight Library, Community College of Southern Nevada, Sahara West Library, Mesquite Library, University of Nevada-Las Vegas, James I. Gibson Library, Clark County Library, James R. Dickinson Library, Moapa Valley Library, Green Valley Library, Sunrise Public Library, Laughlin Library.

Arizona—Burton Barr Central Library, Tempe Public Library, University of Arizona Library, Meadview Community Library, Mohave County Library.

Utah—Washington County Library.

California—Environmental Services Library in San Diego, Palm Springs Public Library.

For further information about the public meetings or for obtaining copies of the document, please contact the SCOP EIS Project Manager, PBS&J, 2270 Corporate Circle, Suite 100, Henderson, NV 89074; e-mail eis@cleanwatercoalition.com; or call (702) 263-7275 extension 3014. For additional information regarding the alternatives to be considered or other matters pertaining to the conservation planning and environmental impact analysis process, please contact: Mr. Michael Boyles, National Park Service, Lake Mead National Recreation Area, 601 Nevada Way, Boulder City, NV 89005, telephone (702) 293-8978; or Mr. Anthony Vigil (LC-2621), Bureau of Reclamation, P.O. Box 61470, Boulder City Nevada 89006-1470, telephone (702) 293-8674.

Decision: After public review of the Draft SCOP EIS, the National Park Service and Bureau of Reclamation will carefully assess and consider all written comments and information obtained at the public meetings. A Final SCOP EIS will be prepared, which at this time is anticipated to be completed during summer 2006. Subsequent to release of the Final SCOP EIS and following a 30-days “no action” waiting period a Record of Decision will be prepared.

Dated: September 22, 2005.
Robert W. Johnson,
Regional Director, Lower Colorado Region, Bureau of Reclamation.

Dated: September 22, 2005.
Jonathan B. Jarvis,
Regional Director, Pacific West Region, National Park Service.

[FR Doc. 05-19960 Filed 10-4-05; 8:45 am]

BILLING CODE 4312-52-P